DEPARTMENT OF COMMERCE

Bureau of Industry and Security

Change in Comment Deadline for Section 232 National Security Investigation of Imports of Uranium

AGENCY: Bureau of Industry and Security, Office of Technology Evaluation, U.S. Department of Commerce.

ACTION: Notice on change in comment period for previously published notice of request for public comments.

SUMMARY: On July 25, 2018, the Bureau of Industry and Security (BIS) published the Notice of Inquiry for Public Comments on Section 232 National Security Investigation of Imports of Uranium. The July 25 notice specified that the Secretary of Commerce initiated an investigation to determine the effects on the national security of imports of uranium. This investigation has been initiated under section 232 of the Trade Expansion Act of 1962, as amended. The July 25 notice invited interested parties to submit written comments, data, analyses, or other information pertinent to the investigation to the Department of Commerce's Bureau of Industry and Security. The deadline for the written comments was September 10, 2018. Today's notice changes the comment deadline to September 25, 2018.

DATES: Comments may be submitted at any time but must be received by September 25, 2018.

ADDRESSES: All written comments on the notice must be submitted by one of the following methods:

• By the Federal eRulemaking Portal: http://www.regulations.gov. Comments on this notice may be submitted to regulations.gov docket number BIS-2018-0011.

• By mail or delivery to Michael Vaccaro, Acting Director, Office of Technology Evaluation, Bureau of Industry and Security, U.S. Department of Commerce, 1401 Constitution Avenue NW, Room 1093, Washington, DC 20230.

• By email directly to Uranium232@bis.doc.gov.

FOR FURTHER INFORMATION CONTACT: Michael Vaccaro, Acting Director, Office of Technology Evaluation, Bureau of Industry and Security, U.S. Department of Commerce (202) 482-4506, Uranium232@bis.doc.gov. For more information about the section 232 program, including the regulations and the text of previous investigations, see www.bis.doc.gov/232.

SUPPLEMENTARY INFORMATION:

Background

On July 25, 2018, (83 FR 35204), the Bureau of Industry and Security (BIS) published the Notice of Request for Public Comments on Section 232 National Security Investigation of Imports of Uranium. The July 25 notice specified that on July 18, 2018, the Secretary of Commerce had initiated an investigation to determine the effects on the national security of imports of uranium. This investigation was initiated under section 232 of the Trade Expansion Act of 1962, as amended (19 U.S.C. 1862). (See the July 25 notice for additional details on the investigation and the request for public comments.)

Change in Comment Period Deadline

The July 25 notice included a comment period deadline of September 10, 2018. The Department received three requests from the public to extend the comment period deadline, including one request from a trade association. The Department of Commerce has determined at this time that it is warranted to extend the comment period by fifteen calendar days. Today's notice specifies that comments may be submitted at any time but must be received by September 25, 2018, to be considered in the drafting of the final report. Today's notice extends the comment period by fifteen days to allow for additional time for the public to submit comments on the investigation of imports of uranium.

Dated: September 5, 2018.
Richard E. Ashooh,
Assistant Secretary for Export Administration.

[FR Doc. 2018-19651 Filed 9-7-18; 8:45 am]

BILLING CODE 3510-33-P